NATIONAL SCIENCE FOUNDATION

Research Performance Progress Report Updates

AGENCY: National Science Foundation (NSF).

ACTION: Request for public comment.

SUMMARY: The Research Performance Progress Report (RPPR) for use with interim progress reports resulted from an initiative of the Research Business Models (RBM) Subcommittee of the Committee on Science (CoS), a committee of the National Science and Technology Council (NSTC). The updated RPPR will directly benefit award recipients by making it easier for them to administer Federal grant and cooperative agreement programs through standardization of the types of information required in interim and final performance reports—thereby reducing their administrative effort and costs. The RPPR will also make it easier to compare the outputs, outcomes, etc. of research programs across the government.

DATES: Comments must be received by May 12, 2014.

ADDRESSES: Comments should be addressed to Suzanne H. Plimpton, Reports Clearance Officer, Office of the General Counsel, National Science Foundation, 4201 Wilson Blvd., Arlington, VA 22230, email: splimpto@nsf.gov; telephone: (703) 292-7556; FAX (703) 292-9242. We encourage respondents to submit comments electronically to ensure timely receipt. We cannot guarantee that comments mailed will be received before the comment closing date. Please include “Research Performance Progress Reporting” in the subject line of the email message; please also include the full body of your comments in the text of the message and as an attachment. Include your name, title, organization, postal address, telephone number, and email address in your message. To view the RPPR format, see: http://www.nsf.gov/bfa/dias/policy/rppr/index.jsp.

FOR FURTHER INFORMATION CONTACT: For information on the RPPR, contact Jean Feldman, Head, Policy Office, Division of Institution & Support, National Science Foundation, 4201 Wilson Blvd., Arlington, VA 22230, email: jfeldman@nsf.gov; telephone (703) 292-8243; FAX: (703) 292-9171. For further information on the NSTC RBM Interagency Working Group, contact Kei Koizumi, at the Office of Science and Technology Policy, 1650 Pennsylvania Avenue NW., Washington, DC 20504; email: kkoizumi@ostp.eop.gov; telephone 202-456-6133; FAX 202-456-6021. See also the RBM Working Group's Internet Web site located at: http://rbm.nih.gov.

SUPPLEMENTARY INFORMATION: One of the RBM Subcommittee's priority areas is to create greater consistency in the administration of Federal research awards. Given the increasing complexity of interdisciplinary and interagency research, it is important for Federal agencies to manage awards in a similar fashion. On behalf of the RBM Subcommittee, the NSF has agreed to continue to serve as the “sponsor” of this updated Federal-wide format.

Comments are invited on (a) whether the proposed collection of information is necessary for the proper performance of the functions of agencies funding research and research-related activities, including whether the information shall have practical utility; (b) ways to enhance the quality, utility, and clarity of the information collected from respondents, including through the use of automated collection techniques or other forms of information technology; and (c) ways to minimize the burden of the collection of information on respondents, including through the use of automated collection techniques or other forms of information technology.

After obtaining and considering public comment, NSF on behalf of the RBM, will prepare the submission requesting OMB clearance of this collection for no longer than three years.

I. Background

The NSF, on behalf of the National Science & Technology Council's Research Business Models Interagency Working Group, is soliciting public comment on a revised standardized RPPR format. The NSF has agreed to continue to serve as the “sponsor” of this Federal-wide format for receipt of comments under this interagency initiative. After an updated format is adopted, Agencies will be required to submit, through the PRA, revisions to their currently approved performance progress reporting information collections in order to comply with the updated RPPR format.

Development and maintenance of a standardized RPPR is an initiative of the Research Business Models (RBM) Interagency Working Group of the Committee on Science (CoS), a Committee of the National Science and Technology Council (NSTC). The objective of this initiative is to implement and maintain a uniform format for reporting performance on Federally-funded research projects. Prior to the implementation of a uniform format, Federal agencies utilized a variety of formats for reporting progress on activities supported by research grants, though similar information was usually collected. These variations increased administrative effort and costs for recipients of Federal awards and made it difficult to compare research programs across government. This format directly benefits award recipients by making it easier for recipients to administer Federal grant programs through standardization of the types of research information required in performance reports.

The RPPR format was approved by the Office of Management and Budget (OMB) and the Office of Science and Technology Policy (OSTP), which released the Policy on Research Performance Progress Report in April 2010. The OMB/OSTP-issued Policy specified that the RPPR would be used by agencies and awarding offices that support research and research-related activities for use in submission of required annual or other interim performance reporting on grants and cooperative agreements. The RPPR is intended to address progress for the most recently completed period, at the frequency required or designated by the sponsoring agency. As indicated in the Federal Register [75 FR 1816-1819, January 13, 2010], the development of a final RPPR format would take place upon completion of the interim RPPR exercise.

A working group was established in March 2013 to handle development of a final RPPR format. Representatives from thirteen different departments/agencies comprised the group. Drawing from agency experiences and perspectives, the group discussed potential revisions to the RPPR format. The group recommended changes in order to allow the format to be used for submission of both interim and final progress reports. Several amendments have been inserted throughout the document to update it, though the proposed revised format retains the same overall structure as the original format.

Each of the categories specified is a separate reporting component. Federal agencies will direct recipients to report on the mandatory category and may also require reporting on optional categories, as appropriate. Recipients will not be required or expected to report on each of the questions or items listed under a particular category. They will be advised to state “Nothing to report” if they have nothing significant to report.

Agencies will utilize the standard instructions that have been developed for each category, but may provide additional program-specific instructions necessary to clarify a requirement for a particular program.

Agencies also may develop additional agency- or program-specific reporting categories and instructions (e.g., the National Institutes of Health may need to collect additional information on clinical trial awards); however, to maintain maximum uniformity, agencies are instructed to minimize the degree to which they supplement the standard categories.

II. Proposed Revisions to Report Format

The proposed revised format for interim and final performance progress reporting on grants and cooperative agreements awarded under research programs is available on the NSF Web site at: http://www.nsf.gov/bfa/dias/policy/rppr/index.jsp.

Revisions to the format have been made so that it may be used for both interim and final reports. Each report will cover one reporting period (annual or other interim period at the frequency required or designated by the agency). Instructions that are specific to the final reporting period will be included as applicable in the format. The recommendation is made to maintain consistency between interim and final reporting for both agencies and recipients.

All existing categories will be retained, and one new category is proposed. The new optional category will be entitled “Project Outcomes” and is intended to be completed as part of the final report. This category enables agencies to collect a summary of outcomes or findings of the award, thereby capturing cumulative information needed by several agencies.

Language was revised throughout the report. First, language was clarified where necessary. Second, terminology was made more inclusive of research-related activities. Third, verbs were made past tense where appropriate.

New information, questions, or instructions were inserted throughout the format. More examples of “other products” were added. The Participants section now has a question on active other support. The Impact section contains a new question on the impact on teaching and educational experiences. Finally, a new, optional category, Project Outcomes, was added.

To accompany the revisions in the RPPR Format, amendments were also made to the RPPR Data Dictionary. New or amended data elements or fields correspond to their counterparts in the RPPR Format.

Dated: March 4, 2014.
Suzanne H. Plimpton,
Reports Clearance Officer, National Science Foundation.

[FR Doc. 2014-05012 Filed 3-10-14; 8:45 am]

BILLING CODE 7555-01-P